DEPARTMENT OF TRANSPORTATION

Federal Aviation Administration

Technical Standard Order—C158, Aeronautical Mobile High Frequency Data Link (HFDL) Equipment

AGENCY: Federal Aviation Administration, DOT.

ACTION: Notice of availability and requests for public comment.

SUMMARY: This notice announces the availability of and requests for comments on the proposed Technical Standard Order (TSO)-C158, Aeronautical Mobile High Frequency Data Link (HFDL) Equipment. The proposed TSO tells manufacturers seeking TSO authorization or letter of design approval what minimum performance standards (MPS) their HFDL equipment must first meet for approval and identification with the applicable TSO markings.

DATES: Submit comments on of before. July 23, 2004.

ADDRESSES: Send all comments on the proposed TSO-C158 to: Federal Aviation Administration, Aircraft Certification Service, Aircraft Engineering Division, Avionic Systems Branch, AIR-130, Room 815, 800 Independence Avenue, SW., Washington, DC 20591. ATTN: Mr. David W. Robinson, AIR-130. You may deliver comments to: Federal Aviation Administration, Room 815, 800 Independence Avenue, SW., Washington, DC 20591.

FOR FURTHER INFORMATION CONTACT: Mr. David W. Robinson, AIR-130, Room 815, Federal Aviation Administration, Aircraft Certification Service, Aircraft Engineering Division, 800 Independence Avenue, SW., Washington, DC 20591, Telephone (202) 385-4650, FAX: (202) 385-4651, or e-mail: david.w.robinson@faa.gov.

SUPPLEMENTARY INFORMATION:

Comments Invited

You are invited to comment on the proposed TSO identified in this notice by submitting written data, views, or arguments to the address listed above. Your comments should identify “Comments to proposed TSO-C158.” You may examine all comments revised on the proposed TSO before and after the comment closing date at the Federal Aviation Administration, Room 815, 800 Independence Avenue, SW., Washington, DC 20591, weekdays except Federal holidays, between 8:30 a.m. and 4:30 p.m. The Director of the Aircraft Certification Service will consider all communications received on or before the closing date before issuing the final TSO.

Background

This proposed TSO-C158 contains minimum performance standards for communications systems utilizing High Frequency Data Link (HFDL) equipment for the air-ground communications sub network in an Aeronautical Telecommunications Network (ATN) environment. This proposed TSO is for manufacturers applying for a TSO authorization or letter of design approval. In it, we (the Federal Aviation Administration) tell you what minimum performance standards (MPS) your Aeronautical Mobile Frequency Data Link (HFDL) communications equipment must meet for approval.

How To Obtain Copies

You may get a copy of the proposed TSO from the Internet at: http://av-info.faa.gov/tso/Tsopro/Proposed.htm. You may also request a copy from Mr. David W. Robinson. See the section entitled For Further Information Contact for the complete address.

Issued in Washington, DC, on June 16, 2004.
Susan J.M. Cabler,
Acting Manager, Aircraft Engineering Division, Aircraft Certification Service.

[FR Doc. 04-14208 Filed 6-22-04; 8:45 am]

BILLING CODE 4910-13-M